FEDERAL ELECTION COMMISSION

11 CFR Parts 102, 104, 106, 109, 110, 9008, and 9012

[Notice 2016-10]

Rulemaking Petition: Implementing the Consolidated and Further Continuing Appropriations Act, 2015

AGENCY: Federal Election Commission.

ACTION: Rulemaking Petition: Notice of availability.

SUMMARY: The Federal Election Commission has received a Petition for Rulemaking that asks the Commission to amend its regulations to implement amendments to the Federal Election Campaign Act made by the Consolidated and Further Continuing Appropriations Act, 2015, which established certain new accounts for national party committees. The petition also asks the Commission to amend its regulations regarding convention committees. The Commission seeks comments on this petition.

DATES: Comments must be submitted on or before January 30, 2017.

ADDRESSES: All comments must be in writing. Commenters are encouraged to submit comments electronically via the Commission's Web site at http://www.fec.gov/fosers, reference REG 2014-10, or by email to NationalPartyAccounts@fec.gov. Alternatively, commenters may submit comments in paper form, addressed to the Federal Election Commission, Attn.: Neven F. Stipanovic, Acting Assistant General Counsel, 999 E Street NW., Washington, DC 20463.

Each commenter must provide, at a minimum, his or her first name, last name, city, state, and zip code. All properly submitted comments, including attachments, will become part of the public record, and the Commission will make comments available for public viewing on the Commission's Web site and in the Commission's Public Records room. Accordingly, commenters should not provide in their comments any information that they do not wish to make public, such as a home street address, personal email address, date of birth, phone number, social security number, or driver's license number, or any information that is restricted from disclosure, such as trade secrets or commercial or financial information that is privileged or confidential.

FOR FURTHER INFORMATION CONTACT: Mr. Neven F. Stipanovic, Acting Assistant General Counsel, or Mr. Tony Buckley or Ms. Esther D. Gyory, Attorneys, Office of General Counsel, 999 E Street NW., Washington, DC 20463, (202) 694-1650 or (800) 424-9530.

SUPPLEMENTARY INFORMATION: On January 8, 2016, the Federal Election Commission received a Petition for Rulemaking from the Perkins Coie LLP Political Law Group. The petition asks the Commission to adopt new regulations, and to revise its current regulations, to implement amendments to the Federal Election Campaign Act, 52 U.S.C. 30101-46 (“FECA”), made by the Consolidated and Further Continuing Appropriations Act, 2015, Pub. L. 113-235, 128 Stat. 2130, 2772 (2014) (the “Appropriations Act”). The petition also asks the Commission to adopt new regulations, and to amend its current regulations, regarding convention committees.

The Appropriations Act amended FECA by establishing separate limits on contributions to three types of segregated accounts of national party committees (collectively “party segregated accounts”). The party segregated accounts are for expenses incurred with respect to (1) presidential nominating conventions; (2) party headquarters buildings; and (3) election recounts or contests and other legal proceedings. 52 U.S.C. 30116(a)(9). The Appropriations Act permits a national party committee to maintain the party segregated accounts in addition to any other federal accounts that the committee may lawfully maintain.

Under the Appropriations Act, a national party committee may use its presidential nominating convention account “solely to defray expenses incurred with respect to a presidential nominating convention (including the payment of deposits) or to repay loans the proceeds of which were used to defray such expenses, except that the aggregate amount of expenditures the national committee of a political party may make from such account may not exceed $20,000,000 with respect to any single convention.” 52 U.S.C. 30116(a)(9)(A). A committee may use its party headquarters building account “solely to defray expenses incurred with respect to the construction, purchase, renovation, operation, and furnishing of one or more headquarters buildings of the party or to repay loans the proceeds of which were used to defray such expenses, or otherwise to restore funds used to defray such expenses.” 52 U.S.C. 30116(a)(9)(B). Finally, a national party committee may use its election recounts or contests and other legal proceedings account to “defray expenses incurred with respect to the preparation for and the conduct of election recounts and contests and other legal proceedings.” 52 U.S.C. 30116(a)(9)(C). The petition asks the Commission to adopt a “new regulatory framework” for each type of party segregated account and to amend current regulations, or adopt new regulations, that would apply to all such accounts.

The petition also addresses convention committees. Until recently, national party committees were entitled to receive public funds to defray the costs of their presidential nominating conventions. See 26 U.S.C. 9001-9013 (2012); 11 CFR part 9008. Commission regulations therefore established convention committees “as a necessary requirement in order to enable the Commission to know who has initial responsibility for handling public funds and incurring expenditures.” Presidential Election Campaign Fund and Federal Financing of Presidential Nominating Conventions, 44 FR 63036, 63038 (Nov. 1, 1979). In 2014, however, Congress terminated the public funding of presidential nominating conventions, while leaving in place most of the statutory framework that had implemented that funding system. See Gabriella Miller Kids First Research Act, Pub. L. 113-94, 128 Stat. 1085 (2014) (the “Research Act”). Shortly after the Research Act was passed, in response to a request filed by two national party committees, the Commission issued an advisory opinion concluding that the requestors could establish convention committees to “us[e] privately-raised funds solely to pay for the same types of convention expenses for which public funds were previously used.” Advisory Opinion 2014-12 (Democratic National Committee et al.) at 5 (internal quotation marks omitted). The petition asks the Commission to adopt new regulations, and amend its current regulations, to address convention committees, as well as to remove related regulations that are now “obsolete.”

The Commission seeks comments on the petition. The public may inspect the petition on the Commission's Web site at http://www.fec.gov/fosers, or in the Commission's Public Records Office, 999 E Street NW., Washington, DC 20463, Monday through Friday, from 9 a.m. to 5 p.m. Interested persons may also obtain a copy of the petition by dialing the Commission's Faxline service at (202) 501-3413 and following its instructions. Request document #282.

The Commission will not consider the petition's merits until after the comment period closes. If the Commission decides that the petition has merit, it may begin a rulemaking proceeding. The Commission will announce any action that it takes in the Federal Register.

Dated: September 29, 2016.
On behalf of the Commission.
Matthew S. Petersen,
Chairman, Federal Election Commission.

[FR Doc. 2016-24309 Filed 10-6-16; 8:45 am]

BILLING CODE 6715-01-P